DEPARTMENT OF THE INTERIOR

National Park Service

[NPS-WASO-NAGPRA-NPS0035952; PPWOCRADN0-PCU00RP14.R50000]

Notice of Intent To Repatriate Cultural Items: Museum of Us, San Diego, CA

AGENCY: National Park Service, Interior.

ACTION: Notice.

SUMMARY: In accordance with the Native American Graves Protection and Repatriation Act (NAGPRA), the Museum of Us intends to repatriate certain cultural items that meet the definition of unassociated funerary objects and that have a cultural affiliation with the Indian Tribes or Native Hawaiian organizations in this notice. The cultural items were removed from Tennessee and Mississippi.

DATES: Repatriation of the cultural items in this notice may occur on or after July 3, 2023.

ADDRESSES: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us. The National Park Service is not responsible for the determinations in this notice. Additional information on the determinations in this notice, including the results of consultation, can be found in the summary or related records held by the Museum of Us.

Description

At an unknown date, one cultural item was removed from an unknown county in the State of Mississippi. In 1939, George L. Hyatt donated the item to the San Diego Museum (now Museum of Us). The unassociated funerary object is an axe head.

At an unknown date, three cultural items were removed from Hickman County, TN. The items were found in a stone-lined grave situated at the junction of the Piney and Duck Rivers. In 1957, George A. Leupold donated the items to the San Diego Museum of Man (now Museum of Us). The three unassociated funerary objects are one adze blade, one double-headed axe head, and one biconcave discoidal.

At an unknown date, two cultural items were removed from an unknown county in the State of Tennessee. Subsequently, Geoffrey Smith, a retired physician and prolific collector of archeological and historic items, acquired these items from the E. Lorenz Borenstein Gallery. In 2010, Smith donated the items to the Museum of Man (now Museum of Us), along with a large Latin American archeological collection. The two unassociated funerary objects are one conch shell mask, and one conch shell dipper.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes and Native Hawaiian organizations, the Museum of Us has determined that:

• The six cultural items described above are reasonably believed to have been placed with or near individual human remains at the time of death or later as part of the death rite or ceremony and are believed, by a preponderance of the evidence, to have been removed from a specific burial site of a Native American individual.

• There is a relationship of shared group identity that can be reasonably traced between the cultural items and The Chickasaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 3, 2023. If competing requests for repatriation are received, the Museum of Us must determine the most appropriate requestor prior to repatriation. Requests for joint repatriation of the cultural items are considered a single request and not competing requests. The Museum of Us is responsible for sending a copy of this notice to the Indian Tribe identified in this notice.

Authority: Native American Graves Protection and Repatriation Act, 25 U.S.C. 3003, and the implementing regulations, 43 CFR 10.8, 10.10, and 10.14.

Dated: May 24, 2023.
Melanie O'Brien,
Manager, National NAGPRA Program.

[FR Doc. 2023-11693 Filed 5-31-23; 8:45 am]

BILLING CODE 4312-52-P